DEPARTMENT OF COMMERCE

United States Patent and Trademark Office

[Docket No. PTO-C-2012-0011]

National Medal of Technology and Innovation Nomination Evaluation Committee Charter Renewal

AGENCY: United States Patent and Trademark Office, Commerce.

ACTION: Notice.

SUMMARY: The Chief Financial Officer and Assistant Secretary of Commerce for Administration, with the concurrence of the General Services Administration, renewed the Charter for the National Medal of Technology and Innovation Nomination Evaluation Committee on March 1, 2012.

DATES: The Charter for the National Medal of Technology and Innovation Nomination Evaluation Committee was renewed on March 1, 2012.

FOR FURTHER INFORMATION CONTACT: Richard Maulsby, Program Manager, National Medal of Technology and Innovation Program, United States Patent and Trademark Office, 600 Dulany Street, Alexandria, VA 22314; telephone (571) 272-8333 or by electronic mail: nmti@uspto.gov. Information is also available on the following Web site: http://www.uspto.gov/about/nmti/index.jsp.

SUPPLEMENTARY INFORMATION: The Chief Financial Officer and Assistant Secretary of Commerce for Administration, with the concurrence of the General Services Administration, renewed the Charter for the National Medal of Technology and Innovation Nomination Evaluation Committee (NMTI Committee) on March 1, 2012. This Notice is published in accordance with the Federal Advisory Committee Act (FACA) (Title 5, United States Code, Appendix 2, § 9). It has been determined that the Committee is necessary and in the public interest. The Committee was established in accordance with the FACA and provides advice to the Secretary on the implementation of Public Law 96-480 (15 U.S.C. 3711), as amended August 9, 2007, specifically with regard to recommendations of nominees for the Medal. The duties of the NMTI Committee are solely advisory in nature. Nominations for this Medal are solicited through an open, competitive, nationwide call for nominations and the NMTI Committee members are responsible for reviewing the nominations received. The NMTI Committee members are distinguished experts in the private and public sectors with experience in, or an understanding of, the development and utilization of technological innovations or technological manpower. The NMTI Committee evaluates the nominees and forwards its recommendations, through the Under Secretary of Commerce for Intellectual Property, to the Secretary who, in turn, forwards his recommendations for the Medal to the President.

Dated: March 13, 2012.
Teresa Stanek Rea,
Acting Under Secretary of Commerce for Intellectual Property and Acting Director of the United States Patent and Trademark Office.

[FR Doc. 2012-6527 Filed 3-16-12; 8:45 am]

BILLING CODE 3510-16-P